ELECTION ASSISTANCE COMMISSION

Sunshine Act Meetings

AGENCY: U.S. Election Assistance Commission.

ACTION: Notice of public meeting agenda.

SUMMARY: U.S. Election Assistance Commission Meeting to Vote on Adoption of VVSG 2.0.

DATES: Wednesday, February 10, 2021, 10:00 a.m.-11:00 a.m. Eastern.

ADDRESSES: Virtual via Zoom.

The official meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct an official meeting on the Voluntary Voting System Guidelines (VVSG) 2.0.

Agenda: The U.S. Election Assistance Commission (EAC) will hear a presentation about the VVSG 2.0 from EAC Executive Director Mona Harrington and will consider the VVSG 2.0 for adoption.

The full agenda will be posted in advance on the EAC website: https://www.eac.gov.

Background: The Federal Election Commission published the first two sets of federal standards in 1990 and 2002. The EAC then adopted Version 1.0 of the VVSG on December 13, 2005. In an effort to update and improve version 1.0 of the VVSG, on March 31, 2015, the EAC commissioners unanimously approved VVSG 1.1.

Throughout 2020, EAC staff worked with the National Institute of Standards and Technology (NIST), the EAC's advisory boards, and gathered input from the public to advance the latest iteration of the VVSG.

The EAC submitted the proposed VVSG 2.0 Requirements to the Standards Board and Board of Advisors executive committees for review on March 11th. The virtual annual meeting for the EAC Board of Advisors was held on July 17th, and the virtual annual meeting for the EAC Standards Board on July 31st. Both meetings focused on VVSG 2.0. The Standards Board passed a resolution recommending adoption of the VVSG 2.0 Requirements.

VVSG 2.0 virtual hearings were held on March 27th, May 6th, and May 20th to accept feedback and testimony from stakeholders.

On March 24th, the EAC initiated a 90-day public comment period on the VVSG 2.0 Requirements which concluded on June 22nd. The EAC received 77 sets of comments and a total of 1,660 comments. The comments predominately focused on accessibility, ambiguity and vagueness of requirements, inconsistent terminology, and additions and changes to the glossary.

The EAC worked on numerous parallel paths in order to submit the VVSG 2.0 to the Commissioners for adoption. Throughout the summer and fall, the EAC's staff met twice per week with the NIST Voting Systems Program to evaluate and resolve public comments on the requirements. EAC staff updated the Voting System Test Laboratory Program Manual and Testing and Certification Program Manual, and developed test assertions to support the VVSG 2.0.

Status: This meeting will be open to the public.

Amanda Joiner,
Associate Counsel, U.S. Election Assistance Commission.

[FR Doc. 2021-01805 Filed 1-22-21; 4:15 pm]

BILLING CODE P